FEDERAL COMMUNICATIONS COMMISSION

[DA 07-4015]

Notice of Debarment; Schools and Libraries Universal Service Support Mechanism

AGENCY: Federal Communications Commission.

ACTION: Notice.

SUMMARY: The Enforcement Bureau (the “Bureau”) debars Mr. Federowicz from the schools and libraries universal service support mechanism (or “E-Rate Program”) for a period of three years based on his conviction of mail fraud in connection with his participation in the program. The Bureau takes this action in order to protect the E-Rate Program from waste, fraud and abuse.

DATES: Debarment commences on the date Mr. Scott A. Federowicz receives the debarment letter or October 18, 2007, whichever date comes first, for a period of three years.

FOR FURTHER INFORMATION CONTACT: Diana Lee, Federal Communications Commission, Enforcement Bureau, Investigations and Hearings Division, Room 4-C330, 445 12th Street, SW., Washington, DC 20554. Diana Lee may be contacted by phone at (202) 418-0843 or e-mail at diana.lee@fcc.gov. If Ms. Lee is unavailable, you may contact Ms. Vickie Robinson, Assistant Chief, Investigations and Hearings Division, by telephone at (202) 418-1420 and by e-mail at vickie.robinson@fcc.gov.

SUPPLEMENTARY INFORMATION: The Bureau debarred Mr. Federowicz from the schools and libraries universal service support mechanism for a period of three years pursuant to 47 CFR part 521 and 47 CFR 0.111(a)(14). Attached is the debarment letter, DA 07-4015, which was mailed to Mr. Federowicz and released on September 24, 2007. The complete text of the notice of debarment is available for public inspection and copying during regular business hours at the FCC Reference Information Center, Portal II, 445 12th Street, SW., Room CY-A257, Washington, DC 20554. In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via e-mail http://www.bcpiweb.com.

Federal Communications Commission.
Hillary S. DeNigro,
Chief, Investigations and Hearings Division, Enforcement Bureau.

The suspension letter follows:

September 24, 2007.

Via Certified Mail

Return Receipt Requested and E-Mail

Mr. Scott A. Federowicz, c/o Paul H.D. Stoughton, Conway & Stoughton, LLP, 818 Farmington Ave., West Hartford, CT 06119.

Re: Notice of Debarment, File No. EB-07-IH-5171.

Dear Mr. Federowicz: Pursuant to section 54.521 of the rules of the Federal Communications Commission (the “Commission”), by this Notice of Debarment you are debarred from the schools and libraries universal service support mechanism (or “E-Rate program”) for a period of three years.¹

¹ See 47 CFR 0.111(a)(14), 54.521.

On June 27, 2007, the Enforcement Bureau (the “Bureau”) sent you a Notice of Suspension and Initiation of Debarment Proceedings (the “Notice of Suspension”).² That Notice of Suspension was published in the Federal Register on July 18, 2007.³ The Notice of Suspension suspended you from the schools and libraries universal service support mechanism and described the basis for initiation of debarment proceedings against you, the applicable debarment procedures, and the effect of debarment.⁴

² Letter from Hillary S. DeNigro, Chief, Investigations and Hearings Division, Enforcement Bureau, Federal Communications Commission, to Mr. Scott A. Federowicz, Notice of Suspension and Initiation of Debarment Proceedings, 22 FCC Rcd 11569 (Inv. & Hearings Div., Enf. Bur. 2007) (Attachment 1).

³ 72 FR 39425 (Jul. 18, 2007).

⁴ See Notice of Suspension, 22 FCC Rcd at 11571.

Pursuant to the Commission's rules, any opposition to your suspension or its scope or to your proposed debarment or its scope had to be filed with the Commission no later than thirty (30) calendar days from the earlier date of your receipt of the Notice of Suspension or publication of the Notice of Suspension in the Federal Register.⁵ The Commission did not receive any such opposition.

⁵ See 47 CFR 54.521(e)(3) and (4). That date occurred no later than August 17, 2007. See supra note 3.

As discussed in the Notice of Suspension, on May 9, 2007, you were convicted based on your guilty plea to a felony information charging you with mail fraud, in violation of 18 U.S.C. 1341.⁶ You pled guilty to approving approximately $452,203 of fictitious expenses for non-existent E-Rate work that ultimately were submitted to the Universal Service Administrative Company for reimbursement from the E-Rate funds.⁷ Such conduct constitutes the basis for your debarment, and your conviction falls within the categories of causes for debarment under section 54.521(c) of the Commission's rules.⁸ For the foregoing reasons, you are hereby debarred for a period of three years from the debarment date, i.e., the earlier date of your receipt of this Notice of Debarment or its publication date in the Federal Register.⁹ Debarment excludes you, for the debarment period, from activities “associated with or related to the schools and libraries support mechanism,” including “the receipt of funds or discounted services through the schools and libraries support mechanism, or consulting with, assisting, or advising applicants or service providers regarding the schools and libraries support mechanism.” ¹⁰

⁶ Notice of Suspension, 22 FCC Rcd at 11570.

⁷ Notice of Suspension, 22 FCC Rcd at 11570.

⁸ Id. at 11571; 47 CFR 54.521(c).

⁹ See Notice of Suspension, 22 FCC Rcd at 11571.

¹⁰ See 47 CFR 54.521(a)(1), 54.521(a)(5), 54.521(d); Notice of Suspension, 22 FCC Rcd at 11571.

Sincerely,

Hillary S. DeNigro,

Chief, Investigations and Hearings Division, Enforcement Bureau.

CC: Calvin B. Kurimai, Esq., Assistant United States Attorney , Kristy Carroll, Esq., Universal Service Administrative Company (via e-mail).

[FR Doc. E7-20571 Filed 10-17-07; 8:45 am]

BILLING CODE 6712-01-P